BUREAU OF CONSUMER FINANCIAL PROTECTION

[Docket No: CFPB-2018-0019]

Privacy Act of 1974; System of Records

AGENCY: Bureau of Consumer Financial Protection.

ACTION: Rescindment of a System of Records Notice.

SUMMARY: In accordance with the Privacy Act of 1974, as amended, the Bureau of Consumer Financial Protection (Bureau) provides notice that it is rescinding CFPB.024 Judicial and Administrative Filings Collection from its inventory of record systems.

The System of Records Notice was intended to address a potential collection of publicly available personally identifiable information contained in formal judicial and administrative filings, or other formal actions that have reached final judgment, involving financial frauds against consumers. The collection would have been used in identifying repeat offenders and prosecuting cases based on these types of frauds, and access to the records would have been limited to State and Federal agencies for law enforcement purposes.

The Bureau is rescinding this System of Records Notice because it never created this system and no information or documents were ever collected, thereby making the System of Records Notice unnecessary.

DATES: Comments must be received no later than June 18, 2018. This Rescindment will be effective upon publication in today's Federal Register.

ADDRESSES: You may submit comments, identified by the title and docket number (see above), by any of the following methods:

• Electronic: privacy@cfpb.gov or http://www.regulations.gov. Follow the instructions for submitting comments.

• Mail: Claire Stapleton, Chief Privacy Officer, Bureau of Consumer Financial Protection, 1700 G Street NW, Washington, DC 20552.

• Hand Delivery/Courier: Claire Stapleton, Chief Privacy Officer, Bureau of Consumer Financial Protection, 1700 G Street NW, Washington, DC 20552.

Comments will be available for public inspection and copying at 1700 G Street NW, Washington, DC 20552, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, at (202) 435-7220. If you require this document in an alternative electronic format, please contact CFPB_Accessibility@cfpb.gov.

SUPPLEMENTARY INFORMATION: The Bureau never implemented the Judicial and Administrative Filings Collection and no information or documents were ever collected pursuant to this Systems of Records Notice. Accordingly, the Bureau reasonably believes that the rescindment of this System of Records Notice will have little effect on individuals' privacy. Rescindment of this System of Records Notice will also promote the overall streamlining and management of Privacy Act record systems for the Bureau.

SYSTEM NAME AND NUMBER:

CFPB.024 Judicial and Administrative Filings Collection.

HISTORY:

78 FR 25426 (May 1, 2013) (CFPB.024 Judicial and Administrative Filings Collection).

Dated: May 14, 2018.
Claire Stapleton,
Chief Privacy Officer, Bureau of Consumer Financial Protection.

[FR Doc. 2018-10632 Filed 5-17-18; 8:45 am]

BILLING CODE 4810-AM-P